DEPARTMENT OF LABOR

Office of the Secretary

Submission for OMB Review; Comment Request

July 10, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or Email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: National Compensation Survey.

OMB Number: 1220-0164.

Affected Public: Business or other for-profit; Not-for-profit institutions; and State, Local, or Tribal Government.

Frequency: Quarterly and Annually.

Number of Respondents: 43,228 (three-year average).

Number of Annual Responses: 70,886 (three-year average).

Estimated Time Per Response and Total Burden Hours:

Form | Total respondents | Frequency | Total responses | Average minutes | Estimated total burden (In hours)
Establishment Collection Form (NCS Form 01-1G) | 0 | Annually or Quarterly | 0 | 21 | 0
Establishment Collection Form (NCS Form 01-1P) | 10,983 | Annually or Quarterly | 10,983 | 21 | 3,844
Earning Form (NCS Form 01-2G) | 0 | Annually or Quarterly | 0 | 20 | 0
Earning Form (NCXS Form 01-2P) | 10,983 | Annually or Quarterly | 10,983 | 20 | 3,661
Computer Generated Earnings Update Form | 25,945 | Annually or Quarterly | 49,767 | 20 | 16,589
Work Level Form (NCS Form 01-3G) | 0 | Annually or Quarterly | 0 | 31 | 0
Work Level Form (NCS Form 01-3P) | 10,983 | Annually or Quarterly | 10,983 | 31 | 5,675
Informed consent (NCS 99-5) | ¹ Unknown | Unknown | Unknown | Negligible | Negligible
Work Schedule Form (NCS 01-4G) | 0 | Annually or Quarterly | 0 | 10 | 0
Work Schedule Form (NCS 01-4P) | 10,983 | Annually or Quarterly | 10,983 | 10 | 1,831
Benefits Collection Form (NCS 01-5G) | 0 | Annually or Quarterly | 0 | 180 | 0
Benefits Collection Form (NCS 01-5P) | 5,533 | Annually or Quarterly | 5,533 | 180 | 0
Summary of Benefits (Benefit Update Form SO-1003) is computer generated | 10,033 | Quarterly | 33,611 | 20 | 11,204
Collection not tied to a specific form (testing, QA/QM, etc.) | 9,859 | Unknown | 9,859 | 5-60 | 7,190
Totals | 95,302 |  | 142,702 |  | 66,593
¹ Dependent upon number of respondents who elect to have third parties provide data.

Total Annualized Capital/Startup Costs: $0.

Total Annual Costs (operating/maintaining systems or purchasing services): $0.

Description: The National Compensation Survey integrates three BLS programs; NCS wage program (former OCSP), the Employment Cost Index (ECI), and the Employee Benefits Survey (EBS). Data are collected from both the private non-farm economy and State and local governments. Data produced from this survey are critical in determining pay increases for Federal workers; in determining monetary policy; and for use by compensation administrators and researchers in the private sector.

Type of Review: Revision of a currently approved collection.

Agency: Bureau of Labor Statistics (BLS).

Title: National Longitudinal Survey of Youth 1997.

OMB Number: 1220-0157.

Affected Public: Individuals or households and not-for-profit institutions (public and private high schools).

Frequency: Annually.

Number of Respondents: 16,251.

Number of Annual Responses: 17,151.

Estimated Time Per Response and Total Burden Hours:

Form | Total respondents | Frequency | Total responses | Average minutes | Estimated total burden (In hours)
Transcript Request and School Information | 4,441 | Once | 4,441 | 30 | 2,221
Youth Interview | 8,436 | Annually | 8,436 | 60 | 8,436
Youth Validation Re-interview | 900 | Annually | 900 | 6 | 90
Household Income Update Form | 3,374 | Annually | 3,374 | 4 | 225
Totals | 16,251 |  | 17,151 |  | 10,972

Total Annualized Capital/Startup Costs: $0.

Total Annual Costs (operating/maintaining systems or purchasing services): $0.

Description: The Department of Labor (DOL), other government agencies, academic researchers, the news media, and the general public will use the information obtained in this survey to understand the employment experiences and school-to-work transitions of young men and women born in the years 1980 to 1984. These respondents were ages 12-17 when the first round of annual interviews began in 1997; the fourth round of annual interviews is being conducted from November 2000 to May 2001. The longitudinal focus of this survey requires information to be collected from the same individuals over many years in order to trace their education, training, work experience, fertility, income and program participation.

Type of Review: Revision of a currently approved collection.

Agency: Bureau of Labor Statistics (BLS).

Title: Labor Market Information (LMI) Cooperative Agreement.

OMB Number: 1220-0079.

Affected Public: State, Local, or Tribal Government.

Frequency: Monthly, Quarterly and Annually.

Number of Respondents: 55.

Number of Annual Responses: 832.

Form | Total respondents | Frequency | Total responses | Average minutes | Estimated total burden (In hours)
Work Statements | 55 | 1 | 55 | 1-2 hrs | 55-110
BIF (LMI 1A, 1B) | 55 | 1 | 55 | 1-6 hrs | 55-330
Quarterly Automated Financial Reports | 48 | 4 | 192 | 10-50 min | 32-160
Monthly Automated Financial Reports | 48 | *8 | 384 | 5-25 min | 32-160
BLS Cooperative Statistics Financial Report (LMI 2A) | 7 | 12 | 84 | 1-5 hrs | 84-420
Quarterly Status Report (LMI 2B) | 1-30 | 4 | 4-120 | 1 hr. | 4-120
Total | 1-55 |  | 774-890 |  | 264-1300
Average Totals | 55 |  | 832 |  | 781
* Reports are not received for end-of-quarter months, i.e., December, March, June, and September.

Total Annualized Capital/Startup Costs: $0.

Total Annual Costs (operating/maintaining systems or purchasing services): $0.

Description: The LMI Cooperative Agreement (CA) includes all information needed by the State Employment Security Agencies (SESAs) to apply for funds to assist them to operate one or more of the five LMI programs operated by the Bureau of Labor Statistics, and, once awarded, report on the status of obligation and expenditure of funds as well as close out the Cooperative Agreement. Information collected under the CA is used by Federal regional and national office staffs to carry out their fiduciary responsibilities to negotiate the CA funding levels with the SESAs, monitor their financial and programmatic performance, and monitor their adherence to administrative requirements imposed by 29 CFR part 97.

Ira L. Mills,
DOL Clearance Officer.

[FR Doc. 01-19115 Filed 7-31-01; 8:45 am]

BILLING CODE 4510-24-P